FEDERAL COMMUNICATIONS COMMISSION

47 CFR Part 95

[WT Docket No. 10-119, RM-10762, RM-10844; Report No. 3082]

Petitions for Reconsideration of Action in Rulemaking Proceeding

AGENCY: Federal Communications Commission.

ACTION: Petitions for Reconsideration.

SUMMARY: Petitions for Reconsideration (Petition) have been filed in the Commission's rulemaking proceeding by Charles S. Farlow, on behalf of Medtronic, Inc., Chuck Powers on behalf of Motorola Solutions, Inc., and Michael E. Williams, on behalf of Cobra Electronics Corporation.

DATES: Oppositions to the Petition must be filed on or before December 27, 2017. Replies to an opposition must be filed on or before January 8, 2018.

ADDRESSES: Federal Communications Commission, 445 12th Street SW, Washington, DC 20554.

FOR FURTHER INFORMATION CONTACT: Thomas Derenge, email: Thomas.Derenge@fcc.gov; phone: (202) 418-2451 or Scot Stone, email: Scot.Stone@fcc.gov; phone: (202) 418-0638.

SUPPLEMENTARY INFORMATION: This is a summary of the Commission's document, Report No. 3082, released December 01, 2017. The full text of the Petitions is available for viewing and copying at the FCC Reference Information Center, 445 12th Street SW, Room CY-A257, Washington, DC 20554. It also may be accessed online via the Commission's Electronic Comment Filing System at: http://apps.fcc.gov/ecfs/. The Commission will not send a Congressional Review Act (CRA) submission to Congress or the Government Accountability Office pursuant to the CRA, 5 U.S.C. because no rules are being adopted by the Commission.

Subject: Personal Radio Services, FCC 17-57, published at 82 FR 41096, August 29, 2017, in WT Docket No. 10-119. This document is being published pursuant to 47 CFR 1.429(e). See also 47 CFR 1.4(b)(1) and 1.429(f), (g).

Number of Petitions Filed: 3.

Federal Communications Commission.
Marlene H. Dortch,
Secretary.

[FR Doc. 2017-26728 Filed 12-11-17; 8:45 am]

BILLING CODE 6712-01-P